DEPARTMENT OF THE INTERIOR

Bureau of Land Management

Notice of Availability (NOA) of the Final Environmental Impact Statement (FEIS) for the Bald Mountain Ski Resort Master Development Plan EIS

AGENCY: Bureau of Land Management, Interior.

ACTION: Notice of availability.

SUMMARY: In accordance with the Federal Land Policy and Management Act of 1976 (43 U.S.C. 1701 et. seq., as amended, and the National Environmental Policy Act of 1969 (NEPA), 42 U.S.C. 4321 et. seq., as amended, the Bureau of Land Management (BLM), Shoshone Field Office, announces the availability of the Final Environmental Impact Statement (FEIS) for the Bald Mountain Ski Resort Master Development Plan EIS. The FEIS analyzes and discloses the effects of the updated Bald Mountain Ski Area Master Development Plan and 40-year term ski permit application for the Bald Mountain Ski Area near Ketchum, Idaho.

DATES: The FEIS will be available for public review for 30 calendar days from the date of this publication, which coincides with the NOA published in the Federal Register by the Environmental Protection Agency (EPA). Following this 30 day period, the Bureau of Land Management (BLM) and U.S. Forest Service will each issue a separate Record of Decision, which will identify the Responsible Officials' Selected Alternative and discuss the rationale for their decisions.

ADDRESSES: A copy of the FEIS was sent to affected Federal, State, and local government agencies and interested parties. The document is also available electronically on the following Web site: http://www.fs.fed.us/r4/sawtooth/projects. Copies of the Final EIS will be available for public inspection at the following locations: Ketchum Ranger District, 206 Sun Valley Road, Ketchum, ID. 83340, Business Hours 8:30 a.m.-5 p.m.

FOR FURTHER INFORMATION CONTACT: Joe Miczulski, Winter Sports Manager at the Ketchum Ranger District; P.O. Box 2356, Ketchum, ID. 83340; or phone at (208)-622-5371.

SUPPLEMENTARY INFORMATION: Sun Valley Company (SVC) has requested a new 40-year term ski area permit for the Bald Mountain Ski Resort. The existing ski area permit, which was issued in December 1977, expires December 2007. To be valid, a ski area permit must have an approved Master Development Plan (MDP), which is prepared by the permit holder and encompasses the entire winter sports resort envisioned for development and authorization by the permit. Upon acceptance by the Authorized Officers, the MDP becomes part of the ski area permit. The EIS analyzes the effects of the proposed action and alternatives. The agencies give notice of the NEPA analysis and decision making process on the proposal so interested and affected members of the public may participate in and contribute to the final decision.

A 1989 MDP currently guides the Forest Service and BLM in their administration of the Special Use Permit (SUP) for the ski area. A majority of the actions described in the 1989 MDP have been implemented. Given the age and status of the 1989 MDP, the Forest Service, BLM and SVC determined that an updated plan would be appropriate at this time.

In August 2005, the Sun Valley Master Plan (2005 Master Plan) was produced and submitted to the Forest Service and BLM. The 2005 Master Plan was accepted at that time, and the Phase 1 projects on public lands were advanced for site-specific review and analysis under requirements of NEPA.

A Draft Environmental Impact Statement (DEIS) for the Phase 1 projects of the 2005 Master Plan was released for public comment in February 2007. The comment period on the DEIS extended through April 9, 2007, eliciting ninety-three comment letters from individuals, organizations, and public agencies. Major themes of the letters included comments relating to the proposal to construct a trail on Guyer Ridge (and associated impacts on the visual environment), installation of additional snowmaking infrastructure (and associated impacts on the acoustic environment), as well as effects to recreation resources associated with trail construction, installation of snowmaking machinery, and seasonal construction of a terrain park on the Warm Springs side of the ski area. The Agencies formally addressed comments in the “Response to Comments on the DEIS” which is included with the FEIS. In addition, some comments warranted clarifications and factual changes in the FEIS; however, none of these changes or clarifications altered the effects determinations disclosed in the DEIS. Some of these changes and clarifications include: quantification of earthen material proposed to be moved for development of the Guyer Ridge trail; a more thorough description of the remodeling plans for the Roundhouse Restaurant; information on avalanche danger on Guyer Ridge under Alternative 2; and clarifications concerning noise and light impacts due to construction and grooming activities on Guyer Ridge.

Purpose and Need for Action: The purpose and need for the proposed Master Development Plan (MDP) is to update the 1989 MDP to reflect current conditions and needs at the ski resort. Most of the improvements described in the 1989 MDP have been implemented. In addition, new ski area technologies, updated land management plans, and changes in the environment have emerged during this time, which warrant consideration in an updated MDP.

Proposed Action: SVC has largely implemented the 1989 MDP. The 2005 MDP represents a logical extension of the previously approved and completed projects, and is separated into three phases. Phase 1 projects are designed to enhance recreational opportunities on Bald Mountain by responding to the constantly evolving mountain sports industry while addressing the goals and objectives of the Sawtooth Forest Plan and the BLM Sun Valley Management Framework Plan. The Proposed Action includes: development of new ski trails both within and outside of the current permit boundary, installation of additional snowmaking machinery, modification of existing ski runs, installation of the River Run Gondola, removal of the Exhibition chairlift, and modifications to the Roundhouse Restaurant. A Vegetation Management Plan (VMP) was also analyzed concurrently with the DEIS. The VMP specified treatments to ensure long-term health of vegetation on Bald Mountain.

Alternatives Identified: Three alternatives are analyzed in the FEIS. Alternative 1—No Action would result in the existing MDP not being updated. The SUP would be renewed in 2007 and the current MDP would be made part of it. Under Alternative 2—the Proposed Action—the MDP as submitted by SVC would be attached to a new ski area permit. Alternative 3 is an alternative which meets the purpose and need to update the MDP, but varies from the actions originally submitted by SVC in response to issues raised by the public.

Preferred Alternative: The Preferred Alternative is a slightly modified Alternative 3, as described in the DEIS and FEIS. The Preferred Alternative consists of a realigned western boundary of the SUP addition for the Guyer Ridge trail included in Alternative 3. The western boundary would be repositioned in a straight line to connect with the western bends of the proposed Guyer Ridge trail. All other elements of Alternative 3, as described in the DEIS, remain in the Preferred Alternative. These include the following: installation of a new gondola, removal of the Exhibition chairlift, adjustment of the SUP boundary to include new ski trails, development of new ski trails and modification of existing ski runs within the current permit boundary, installation of additional snowmaking machinery, implementation of a non-significant Forest Plan Amendment for scenery resources, modifications to the Roundhouse Restaurant, and implementation of the VMP. The Preferred Alternative would reduce the acreage added to the ski area's SUP, yet still allow the permittee to glade Guyer Ridge as proposed in Alternative 3. In addition, this modification would provide the ski area the flexibility to manage the terrain similar to other in-bounds portions of the ski area.

Dated: August 16, 2007.
Bill Baker,
District Manager, Twin Falls District, Bureau of Land Management.

[FR Doc. E7-22502 Filed 11-15-07; 8:45 am]

BILLING CODE 4310-$$-P